DEPARTMENT OF TRANSPORTATION

Federal Aviation Administration

14 CFR Part 39

[Docket No. FAA-2006-25391; Directorate Identifier 2006-NM-097-AD]

RIN 2120-AA64

Airworthiness Directives; Fokker Model F.28 Mark 0070 and 0100 Airplanes

AGENCY: Federal Aviation Administration (FAA), Department of Transportation (DOT).

ACTION: Supplemental notice of proposed rulemaking (NPRM); reopening of comment period.

SUMMARY: The FAA is revising an earlier NPRM for an airworthiness directive (AD) that applies to certain Fokker Model F.28 Mark 0070 and 0100 airplanes. The original NPRM would have superseded an existing AD that currently requires a one-time inspection of the sliding members in the main landing gear (MLG) for cracking and replacement of the sliding members with serviceable parts if necessary. The original NPRM proposed to require repetitive magnetic particle inspections of the sliding members of the MLG for cracking and corrective actions as necessary. The original NPRM resulted from inspection findings that have shown repetitive inspections are needed to establish fleet safety. This new action revises the original NPRM by correcting a certain part number in the applicability. We are proposing this supplemental NPRM to detect and correct fatigue cracking of the sliding member, which could result in possible separation of the MLG from the airplane and consequent reduced controllability of the airplane upon landing and possible injury to passengers.

DATES: We must receive comments on this supplemental NPRM by January 22, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Fokker Services B.V., Technical Services Dept., P.O. Box 231, 2150 AE Nieuw-Vennep, the Netherlands, for service information identified in this proposed AD.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Comments Invited

We invite you to submit any relevant written data, views, or arguments regarding this proposal. Send your comments to an address listed in the ADDRESSES section. Include the docket number “Docket No. FAA-2006-25391; Directorate Identifier 2006-NM-097-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in ADDRESSES. Comments will be available in the AD docket shortly after the Docket Management System receives them.

Discussion

The FAA issued a notice of proposed rulemaking (NPRM) (the “original NPRM”) to amend 14 CFR part 39 to include an AD that supersedes AD 2004-08-01, amendment 39-13570 (69 FR 19759, April 14, 2004). The existing AD applies to certain Fokker Model F.28 Mark 0070 and 0100 airplanes. The original NPRM was published in the Federal Register on July 19, 2006 (71 FR 40945). The original NPRM proposed to continue to require a one-time inspection of the sliding members in the main landing gear (MLG) for cracking and replacement of the sliding members with serviceable parts if necessary. That NPRM also proposed to require repetitive magnetic particle inspections of the sliding members of the MLG for cracking and corrective actions as necessary.

Actions Since Original NPRM Was Issued

Since we issued the original NPRM, we have discovered a typographical error in the applicability of AD 2004-08-01 and the original NPRM. Table 1 of AD 2004-08-01 and the original NPRM incorrectly identified MLG part number (P/N) 201012014. We have revised Table 1 of the supplemental NPRM to refer to P/N 201072014.

Comments

We have considered the following comment on the original NPRM.

Request To Publish Service Information

The Modification and Replacement Parts Association (MARPA) states that, typically, ADs are based on service information originating with the type certificate holder or its suppliers. MARPA adds that manufacturer service documents are privately authored instruments generally having copyright protection against duplication and distribution. MARPA notes that when a service document is incorporated by reference into a public document, such as an AD, it loses its private, protected status and becomes a public document. MARPA adds that if a service document is used as a mandatory element of compliance, it should not simply be referenced, but should be incorporated into the regulatory document; by definition, public laws must be public, which means they cannot rely upon private writings. MARPA adds that incorporated by reference service documents should be made available to the public by publication in the Docket Management System (DMS), keyed to the action that incorporates them. MARPA notes that the stated purpose of the incorporation by reference method is brevity, to keep from expanding the Federal Register needlessly by publishing documents already in the hands of the affected individuals; traditionally, “affected individuals” means aircraft owners and operators, who are generally provided service information by the manufacturer. MARPA adds that a new class of affected individuals has emerged, since the majority of aircraft maintenance is now performed by specialty shops instead of aircraft owners and operators. MARPA notes that this new class includes maintenance and repair organizations, component servicing and repair shops, parts purveyors and distributors, and organizations manufacturing or servicing alternatively certified parts under section 21.303 (“Replacement and modification parts”) of the Federal Aviation Regulations (14 CFR 21.303). MARPA adds that the concept of brevity is now nearly archaic as documents exist more frequently in electronic format than on paper. Therefore, MARPA asks that the service documents deemed essential to the accomplishment of the NPRM be incorporated by reference into the regulatory instrument, and published in the DMS.

We do not agree that documents should be incorporated by reference during the NPRM phase of rulemaking. The Office of the Federal Register (OFR) requires that documents that are necessary to accomplish the requirements of the AD be incorporated by reference during the final rule phase of rulemaking. A final rule incorporates by reference the documents necessary for the accomplishment of the requirements mandated by the AD. Further, we point out that while documents that are incorporated by reference do become public information, they do not lose their copyright protection. For that reason, we advise the public to contact the manufacturer to obtain copies of the referenced service information.

In regard to the commenter's request to post service bulletins on the Department of Transportation's DMS, we are currently in the process of reviewing issues surrounding the posting of service bulletins on DMS as part of an AD docket. Once we have thoroughly examined all aspects of this issue and have made a final determination, we will consider whether our current practice needs to be revised. No change to the supplemental NPRM is necessary in response to this comment.

FAA's Determination and Proposed Requirements of the Supplemental NPRM

The change discussed above expands the scope of the original NPRM; therefore, we have determined that it is necessary to reopen the comment period to provide additional opportunity for public comment on this supplemental NPRM.

Costs of Compliance

This proposed AD would affect about 37 airplanes of U.S. registry.

The inspection that is required by AD 2004-08-01 and retained in this proposed AD takes either about 4 or 12 work hours per airplane, depending on airplane configuration, at an average labor rate of $80 per work hour. Based on these figures, the estimated cost of the currently required actions is either $320 or $960 per airplane, depending on airplane configuration.

The new proposed inspections would take about 2 work hours per airplane, at an average labor rate of $80 per work hour. Based on these figures, the estimated cost of the new inspections specified in this proposed AD for U.S. operators is $5,920, or $160 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13570 (69 FR 19759, April 14, 2004) and adding the following new airworthiness directive (AD):

Fokker Services B.V.: Docket No. FAA-2006-25391; Directorate Identifier 2006-NM-097-AD.

Comments Due Date

(a) The FAA must receive comments on this AD action by January 22, 2007.

Affected ADs

(b) This AD supersedes AD 2004-08-01.

Applicability

(c) This AD applies to Fokker Model F.28 Mark 0070 and 0100 airplanes, certificated in any category; equipped with any Dowty or Messier-Dowty main landing gear (MLG) listed in Table 1 of this AD.

Table 1.—Affected Parts
MLG part number (P/N) | Equipped with sliding member P/N
201072011 | 201072301 or 201072305
201072012 | 201072301 or 201072305
201072013 | 201072301 or 201072305
201072014 | 201072301 or 201072305
201072015 | 201072301 or 201072305
201072016 | 201072301 or 201072305

Unsafe Condition

(d) This AD results from inspection findings that have shown repetitive inspections are needed to establish fleet safety. We are issuing this AD to detect and correct fatigue cracking of the sliding member, which could result in possible separation of the MLG from the airplane and consequent reduced controllability of the airplane upon landing and possible injury to passengers.

Compliance

(e) You are responsible for having the actions required by this AD performed within the compliance times specified, unless the actions have already been done.

Requirements of AD 2004-08-01

Inspection and Replacement if Necessary

(f) Within 1,000 flight cycles or six months after May 19, 2004 (the effective date of AD 2004-08-01), whichever occurs first, perform a magnetic inspection of the sliding members of the MLG for cracking, in accordance with the Accomplishment Instructions of Fokker Service Bulletin SBF100-32-133, dated April 1, 2002. If any crack is found during the inspection, before further flight, replace the sliding members with serviceable parts in accordance with the Accomplishment Instructions of the service bulletin.

Note 1: Fokker Service Bulletin SBF100-32-133, dated April 1, 2002, refers to Messier-Dowty Service Bulletin F100-32-103, dated March 11, 2002, as an additional source of service information.

Parts Installation With Accomplishment of New Service Bulletins

(g) As of May 19, 2004, no person may install a sliding member of the MLG, P/N 201072301 or P/N 201072305, on any airplane, unless it has been inspected in accordance with the Accomplishment Instructions of Fokker Service Bulletin SBF100-32-133, dated April 1, 2002; Fokker Service Bulletin SBF100-32-139, dated March 5, 2004; or Fokker Service Bulletin SBF100-32-144, dated September 19, 2005; and found to be serviceable.

Note 2: Fokker Service Bulletin SBF100-32-139, dated March 5, 2004, refers to Messier-Dowty Service Bulletin F100-32-105, dated March 2, 2004, as an additional source of service information for accomplishing a magnetic inspection.

Note 3: Fokker Service Bulletin SBF100-32-144, dated September 19, 2005, refers to Messier-Dowty Service Bulletin F100-32-110, dated August 25, 2005, as an additional source of service information for accomplishing a magnetic inspection.

Reporting Requirement Difference

(h) Although Fokker Service Bulletin SBF100-32-133, dated April 1, 2002, specifies to submit certain information to the manufacturer, this AD does not include such a requirement.

New Requirements of This AD

Repetitive Inspections

(i) At the later of the compliance times specified in paragraphs (i)(1) and (i)(2) of this AD: Do a magnetic inspection of the sliding members of the left and right MLG for cracking, and do all corrective actions before further flight after the inspection, by accomplishing all of the applicable actions specified in the Accomplishment Instructions of Fokker Service Bulletin SBF100-32-144, dated September 19, 2005. Repeat the inspection thereafter at intervals not to exceed 2,000 flight cycles.

(1) Within 2,000 flight cycles after accomplishing paragraph (f) of this AD.

(2) Within 4 months after the effective date of this AD.

Credit for Fokker Service Bulletin SBF100-32-139

(j) Actions done before the effective date of this AD in accordance with Fokker Service Bulletin SBF100-32-139, dated March 5, 2004, are acceptable for compliance with the corresponding requirements of paragraph (f) of this AD.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) Dutch airworthiness directive NL-2005-012, dated October 17, 2005, also addresses the subject of this AD.

Issued in Renton, Washington, on December 19, 2006.
Ali Bahrami,
Manager, Transport Airplane Directorate, Aircraft Certification Service.

[FR Doc. E6-22279 Filed 12-27-06; 8:45 am]

BILLING CODE 4910-13-P